DEPARTMENT OF AGRICULTURE

Animal and Plant Health Inspection Service

[Docket No. APHIS-2006-0087]

General Conference Committee of the National Poultry Improvement Plan; Solicitation for Membership

AGENCY: Animal and Plant Health Inspection Service, USDA.

ACTION: Notice of solicitation for membership.

SUMMARY: We are giving notice that the Secretary of Agriculture is soliciting nominations for the election of regional membership and a member-at-large for the General Conference Committee of the National Poultry Improvement Plan.

DATES: Consideration will be given to nominations received on or before November 20, 2006.

ADDRESSES: Nominations should be addressed to Mr. Andrew R. Rhorer, Senior Coordinator, National Poultry Improvement Plan, VS, APHIS, 1498 Klondike Road, Suite 101, Conyers, GA 30094-5104.

FOR FURTHER INFORMATION CONTACT: Mr. Andrew R. Rhorer at the above address or telephone (770) 922-3496.

SUPPLEMENTARY INFORMATION: The General Conference Committee (the Committee) of the National Poultry Improvement Plan (NPIP) is the Secretary's Advisory Committee on poultry health. The Committee serves as a forum for the study of problems relating to poultry health and, as necessary, makes specific recommendations to the Secretary concerning ways the U.S. Department of Agriculture may assist the industry in addressing these problems. The Committee assists the Department in planning, organizing, and conducting the Biennial Conference of the NPIP. The Committee recommends whether new proposals should be considered by the delegates to the Biennial Conference and serves as a direct liaison between the NPIP and the United States Animal Health Association.

Terms will expire for current regional members of the Committee and a member-at-large in September 2006. We are soliciting nominations from interested organizations and individuals to replace members on the Committee for the East North Central Region (Illinois, Indiana, Michigan, Ohio, and Wisconsin), the North Atlantic Region (Connecticut, Maine, Massachusetts, New Hampshire, New Jersey, New York, Pennsylvania, Rhode Island, and Vermont), the South Atlantic Region (Delaware, Florida, Georgia, Maryland, North Carolina, South Carolina, Virginia, and West Virginia), and the Western Region (Alaska, Arizona, California, Colorado, Hawaii, Idaho, Montana, New Mexico, Nevada, Oregon, Utah, Washington, and Wyoming), as well as a member-at-large. There must be at least two nominees for each position. To ensure the recommendations of the Committee have taken into account the needs of the diverse groups served by the Department, membership should include, to the extent practicable, individuals with demonstrated ability to represent underrepresented groups (minorities, women, and persons with disabilities). At least one nominee from each of the four regions must be from such an underrepresented group. The voting will be by secret ballot of official delegates from the respective region, and the results will be recorded. The member-at-large will represent all of the regions.

Done in Washington, DC, this 29th day of September 2006.
Kevin Shea,
Acting Administrator, Animal and Plant Health Inspection Service.

[FR Doc. E6-16458 Filed 10-4-06; 8:45 am]

BILLING CODE 3410-34-P